DEPARTMENT OF COMMERCE

National Oceanic and Atmospheric Administration

Agency Information Collection Activities; Submission to the Office of Management and Budget (OMB) for Review and Approval; Comment Request; NOAA Fisheries Greater Atlantic Region Gear Identification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 11, 2020, during a 60-day comment period. This notice allows for an additional 30 days for public comments.

Agency: National Oceanic and Atmospheric Administration.

Title: NOAA Fisheries Greater Atlantic Region Gear Identification Requirements.

OMB Control Number: 0648-0351.

Form Number(s): None.

Type of Request: Regular submission [extension of a current information collection].

Number of Respondents: 4,789.

Average Hours per Response: 1 minute per string of gear.

Total Annual Burden Hours: 16,886.

Needs and Uses: The ability to link fishing gear to the vessel owner or operator is crucial for enforcement of regulations under the authority of the Magnuson-Stevens Fishery Conservation and Management Act and Atlantic Coastal Fisheries Cooperative Management Act. Gear identification is also used to identify ownership of lost or damaged gear, as well as gear involved in civil proceedings. Gear can be lost or damaged as the result of interactions between mobile and fixed gears. Gear identification is an important tool in identifying the parties involved in these conflicts. Proper marking also makes gear more visible to other vessels in the water to aid in navigation and increase safety at sea.

Affected Public: Individuals and households; business or other for-profit organizations.

Frequency: Annually.

Respondent's Obligation: Mandatory.

Legal Authority: Magnuson Stevens Fishery Conservation and Management Act, Atlantic Coastal Fisheries Cooperative Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0351.

Sheleen Dumas,
Department PRA Clearance Officer, Office of the Chief Information Officer, Commerce Department.

[FR Doc. 2020-14683 Filed 7-7-20; 8:45 am]

BILLING CODE 3510-22-P